DEPARTMENT OF HOMELAND SECURITY

Federal Emergency Management Agency

44 CFR Part 67

[Docket ID FEMA-2010-0003; Internal Agency Docket No. FEMA-B-1114]

Proposed Flood Elevation Determinations

Correction

In proposed rule document 2010-14558 appearing on pages 34415-34417 in the issue of June 17, 2010, make the following correction:

§ 67.4 [Corrected]

On page 34416, in § 67.4, the table titled “Cass County, Texas, and Incorporated Areas” is corrected to read as set forth below:

Cass County, Texas, and Incorporated Areas
Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Black Bayou | Just upstream of FM 251 Approximately 1 mile upstream of U.S. Route 59 | None None | +227 +237 | Unincorporated Areas of Cass County.
Hurricane Creek | Approximately 250 feet upstream of East Pinecrest Drive | None | +237 | Unincorporated Areas of Cass County.
| Just downstream of North Holly Street | None | +269 |
South Tributary to Black Bayou | At the confluence with Black Bayou Approximately 800 feet downstream of Salmon Road | None None | +228 +239 | Unincorporated Areas of Cass County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
Unincorporated Areas of Cass County
Maps are available for inspection at the Cass County Courthouse, 604 Highway 8 North, Linden, TX 75563.

[FR Doc. C1-2010-14558 Filed 3-27-12; 8:45 am]

BILLING CODE 1505-01-D